ENVIRONMENTAL PROTECTION AGENCY

[FRL OP-OFA-013]

Environmental Impact Statements; Notice of Availability

Responsible Agency: Office of Federal Activities, General Information 202-564-5632 or https://www.epa.gov/nepa.

Weekly receipt of Environmental Impact Statements (EIS)

Filed April 11, 2022 10 a.m. EST Through April 18, 2022 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20220054, Draft, FERC, KY, Texas Gas Henderson County Expansion Project, Comment Period Ends: 06/06/2022, Contact: Office of External Affairs 866-208-3372.

EIS No. 20220055, Final, USFS, OR, Cliff Knox Project, Review Period Ends: 06/13/2022, Contact: Lori Bailey 541-573-4366.

EIS No. 20220056, Draft, TVA, TN, Moore County Solar, Comment Period Ends: 06/06/2022, Contact: Ashley Pilakowski 865-632-2256.

Dated: April 18, 2022.
Marthea Rountree,
Acting Director, NEPA Compliance Division, Office of Federal Activities.

[FR Doc. 2022-08621 Filed 4-21-22; 8:45 am]

BILLING CODE 6560-50-P